DEPARTMENT OF TRANSPORTATION

Federal Aviation Administration

14 CFR Part 39

[Docket No. FAA-2007-29333; Directorate Identifier 2007-NM-141-AD]

RIN 2120-AA64

Airworthiness Directives; Boeing Model 737-600, -700, -700C, -800, and -900 Series Airplanes

AGENCY: Federal Aviation Administration (FAA), Department of Transportation (DOT).

ACTION: Notice of proposed rulemaking (NPRM).

SUMMARY: The FAA proposes to adopt a new airworthiness directive (AD) for certain Boeing Model 737-600, -700, -700C, -800, and -900 series airplanes. This proposed AD would require various repetitive inspections to detect cracks along the chemically milled steps of the fuselage skin or missing or loose fasteners in the area of the preventative modification or repairs, replacement of the time-limited repair with the permanent repair if applicable, and applicable corrective actions if necessary, which would end certain repetitive inspections. This proposed AD results from a fatigue test that revealed numerous cracks in the upper skin panel at the chemically milled step above the lap joint. We are proposing this AD to detect and correct such fatigue-related cracks, which could result in the crack tips continuing to turn and grow to the point where the skin bay flaps open, causing decompression of the airplane.

DATES: We must receive comments on this proposed AD by November 13, 2007.

ADDRESSES: Use one of the following addresses to submit comments on this proposed AD.

• DOT Docket Web site: Go to http://dms.dot.gov and follow the instructions for sending your comments electronically.

• Governmentwide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Boeing Commercial Airplanes, P.O. Box 3707, Seattle, Washington 98124-2207, for the service information identified in this proposed AD.

FOR FURTHER INFORMATION CONTACT: Wayne Lockett, Aerospace Engineer, Airframe Branch, ANM-120S, FAA, Seattle Aircraft Certification Office, 1601 Lind Avenue, SW., Renton, Washington 98057-3356; telephone (425) 917-6447; fax (425) 917-6590.

SUPPLEMENTARY INFORMATION:

Comments Invited

We invite you to submit any relevant written data, views, or arguments regarding this proposed AD. Send your comments to an address listed in the ADDRESSES section. Include the docket number “FAA-2007-29333; Directorate Identifier 2007-NM-141-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground level of the West Building at the DOT street address stated in the ADDRESSES section. Comments will be available in the AD docket shortly after the Docket Management System receives them.

Discussion

We have received a report that, during a fatigue test of the fuselage of a Boeing Model 737-800 series airplane, numerous cracks were found in the upper skin panel at the chemically milled step above the lap joint at stringers 4 and 10 on both the left and right sides of the airplane. The cracks were caused by fatigue stresses generated by secondary bending in the lap splice. Such fatigue-related cracks, if not detected and corrected in a timely manner, could result in the crack tips continuing to turn and grow to the point where the skin bay flaps open, causing decompression of the airplane.

Relevant Service Information

We have reviewed Boeing Special Attention Service Bulletin 737-53-1232, dated April 2, 2007. The service information describes the following actions:

Inspections and Replacement, as Applicable
For airplanes on which— | The service bulletin describes procedures for doing—
The preventative modification specified in the service bulletin has not been installed | An external eddy current inspection to detect cracks of the chemically milled steps at the upper skin panels and repetitive external detailed inspections to detect cracks of the skin.
The preventative modification specified in the service bulletin has been installed | Repetitive external detailed inspections and repetitive external high frequency eddy current (HFEC) inspections to detect cracks or loose or missing fasteners in the area of the preventative modification.
The permanent repair specified in the service bulletin has been installed | Repetitive external low frequency eddy current (LFEC) inspections to detect cracks in the skin.
| Repetitive external LFEC inspections to detect cracks of the doubler.
| Repetitive external detailed inspections to detect cracks or loose or missing fasteners of the permanent repair.
| Repetitive internal medium frequency eddy current inspections to detect cracks of the skin if doing “Skin Inspection Option 2” specified in Table 2 of the service bulletin
The time-limited repair specified in the service bulletin has been installed | Repetitive internal and external detailed inspections to detect cracks or loose or missing fasteners of the repaired area and replacement of the time-limited repair with the permanent repair.

The service information also describes procedures for doing applicable corrective actions. The corrective actions include contacting Boeing for certain conditions, replacing any loose or missing fastener with a new fastener, and installing a permanent repair, time-limited repair, and preventative modification. For airplanes on which the preventative modification has not been installed, accomplishing the preventative modification, time-limited repair, or permanent repair ends the repetitive external detailed inspections only.

The service information also specifies the following compliance times:

• For the initial inspections and replacement: Compliance times ranging between 1,500 flight cycles and 56,000 total flight cycles, depending on the airplane configuration and the inspection method.

• For the applicable corrective actions: A compliance time of before further flight.

• For repetitive inspections: Repeat intervals ranging between 1,100 and 8,000 flight cycles, depending on the airplane configuration.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Difference Between the Proposed AD and Service Information.”

Difference Between the Proposed AD and Service Information

The service information specifies to contact the manufacturer for instructions on how to repair certain conditions, but this proposed AD would require repairing those conditions in one of the following ways:

• Using a method that we approve; or

• Using data that meet the certification basis of the airplane, and that have been approved by an Authorized Representative for the Boeing Commercial Airplanes Delegation Option Authorization Organization whom we have authorized to make those findings.

Costs of Compliance

There are about 871 airplanes of the affected design in the worldwide fleet. This proposed AD would affect about 378 airplanes of U.S. registry. The proposed inspections would take between 11 and 25 work hours per airplane depending on the airplane configuration, at an average labor rate of $80 per work hour. Based on these figures, the estimated cost of the proposed AD for U.S. operators is between $332,640 and $756,000, or between $880 and $2,000 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2007-29333; Directorate Identifier 2007-NM-141-AD.

Comments Due Date

(a) The FAA must receive comments on this AD action by November 13, 2007.

Affected ADs

(b) None.

Applicability

(c) This AD applies to Boeing Model 737-600, -700, -700C, -800, and -900 series airplanes, certificated in any category; as identified in Boeing Special Attention Service Bulletin 737-53-1232, dated April 2, 2007.

Unsafe Condition

(d) This AD results from a fatigue test that revealed numerous cracks in the upper skin panel at the chemically milled step above the lap joint. We are issuing this AD to detect and correct such fatigue-related cracks, which could result in the crack tips continuing to turn and grow to the point where the skin bay flaps open, causing decompression of the airplane.

Compliance

(e) You are responsible for having the actions required by this AD performed within the compliance times specified, unless the actions have already been done.

Service Bulletin

(f) The term “service bulletin,” as used in this AD, means Boeing Special Attention Service Bulletin 737-53-1232, dated April 2, 2007.

Inspections and Replacement, as Applicable

(g) At the applicable compliance times listed in Tables 1, 2, and 3 of paragraph 1.E., “Compliance,” of the service bulletin, or within the time specified in paragraph (g)(1) or (g)(2) of this AD, as applicable, whichever occurs later, and thereafter at the applicable repeat intervals listed in Tables 1, 2, and 3: Do the applicable inspections and replacement by accomplishing all the actions specified in the Accomplishment Instructions of the service bulletin.

(1) For airplanes specified in Tables 1 and 2 of paragraph 1.E., “Compliance,” of the service bulletin: Do the applicable initial inspection required by paragraph (g) of this AD within 36 months after the effective date of this AD.

(2) For airplanes specified in Table 3 of paragraph 1.E., “Compliance,” of the service bulletin: Do the applicable initial inspection and replacement required by paragraph (g) of this AD within 24 months after the effective date of this AD.

Corrective Actions

(h) If any crack or loose or missing fastener is found during any applicable inspection required by paragraph (g) of this AD, before further flight, do the applicable corrective action in accordance with the service bulletin; except, where the service bulletin specifies to contact Boeing for appropriate action, before further flight, repair the crack using a method approved in accordance with the procedures specified in paragraph (j) of this AD.

Terminating Action for Certain Repetitive Inspections

(i) For airplanes on which the preventative modification specified in the service bulletin has not been installed: Accomplishing the preventative modification, time-limited repair, or permanent repair in accordance with the service bulletin ends the applicable repetitive external detailed inspections required by paragraph (g) of this AD.

Alternative Methods of Compliance (AMOCs)

(j)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Issued in Renton, Washington, on September 21, 2007.
Ali Bahrami,
Manager, Transport Airplane Directorate, Aircraft Certification Service.

[FR Doc. E7-19205 Filed 9-27-07; 8:45 am]

BILLING CODE 4910-13-P